DEPARTMENT OF THE INTERIOR

National Park Service

[NPS-WASO-NAGPRA-NPS0038705; PPWOCRADN0-PCU00RP14.R50000]

Notice of Intended Repatriation: University of California, Berkeley, Berkeley CA

AGENCY: National Park Service, Interior.

ACTION: Notice.

SUMMARY: In accordance with the Native American Graves Protection and Repatriation Act (NAGPRA), the University of California, Berkeley intends to repatriate a certain cultural item that meet the definition of an object of cultural patrimony and that has a cultural affiliation with the Indian Tribes or Native Hawaiian organizations in this notice.

DATES: Repatriation of the cultural item in this notice may occur on or after October 15, 2024.

ADDRESSES: Alexandra Lucas, Repatriation Coordinator, Government and Community Relations (Chancellor's Office), University of California, Berkeley. 200 California Hall, Berkeley, CA 94720, telephone (510) 570-0964, email nagpra-ucb@berkeley.edu.

SUPPLEMENTARY INFORMATION: This notice is published as part of the National Park Service's administrative responsibilities under NAGPRA. The determinations in this notice are the sole responsibility of the University of California, Berkeley, and additional information on the determinations in this notice, including the results of consultation, can be found in the summary or related records. The National Park Service is not responsible for the determinations in this notice.

Abstract of Information Available

A total of one cultural item has been requested for repatriation. The one object of cultural patrimony is a Kiowa calendar (winter counts) created by Chief Dohasan, chronicling events from winter 1832-33 to summer 1892 (catalog number 2-4933a-c). Hugh Lenox Scott obtained the calendar at Fort Sill on the Kiowa reservation prior to 1900. The calendar was sold to the Lowie Museum (Phoebe A Hearst Museum of Anthropology) as part of a large private collection from Hugh Lenox Scott in 1906. Documentation in the accession file and a museum publication on the calendar indicate the owner, `Dohasan, nephew of the well-known Kiowa chief, of the same name, said that the record had been kept in his family since his youth. The Chronicle was originally painted on hides which were renewed from time to time as they wore out from age and handling. The calendar given to Scott and included in the collections of the Lowie Museum since 1900, was on paper, executed with colored pencils by Dohasan, from the last hide record.'

Collections and collection spaces at the Phoebe A Hearst Museum of Anthropology were treated with substances for preservation and pest control, some potentially hazardous. No records have been found to date at the Museum to indicate whether or not chemicals or natural substances were used prior to 1960.

Determinations

The University of California, Berkeley has determined that:

• The one object of cultural patrimony described in this notice has ongoing historical, traditional, or cultural importance central to the Native American group, including any constituent sub-group (such as a band, clan, lineage, ceremonial society, or other subdivision), according to the Native American traditional knowledge of an Indian Tribe or Native Hawaiian organization.

• There is a reasonable connection between the cultural item described in this notice and the Kiowa Indian Tribe of Oklahoma.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after October 15, 2024. If competing requests for repatriation are received, the University of California, Berkeley must determine the most appropriate requestor prior to repatriation. Requests for joint repatriation of the cultural item are considered a single request and not competing requests. The University of California, Berkeley is responsible for sending a copy of this notice to the Indian Tribes and Native Hawaiian organizations identified in this notice and to any other consulting parties.

Authority: Native American Graves Protection and Repatriation Act, 25 U.S.C. 3004 and the implementing regulations, 43 CFR 10.9.

Dated: September 5, 2024.
Melanie O'Brien,
Manager, National NAGPRA Program.

[FR Doc. 2024-20866 Filed 9-12-24; 8:45 am]

BILLING CODE 4312-52-P